DEPARTMENT OF HOMELAND SECURITY

U.S. Customs and Border Protection

Automated Commercial Environment (ACE): Announcement of a National Customs Automation Program Test of Automated Manifest Capabilities for Ocean and Rail Carriers

AGENCY: U.S. Customs and Border Protection, DHS.

ACTION: General notice.

SUMMARY: U.S. Customs and Border Protection (CBP) will be conducting a National Customs Automation Program test concerning the transmission of required advance ocean and rail data through the Automated Commercial Environment (ACE). This notice provides a description of the test process, sets forth eligibility criteria for participation, opens the application period for participation, outlines the development and evaluation methodology to be used, and invites public comments. Additionally, this notice advises the public that shortly after the successful completion of the test, CBP intends to publish a notice in the Federal Register announcing that ACE will be the only CBP-approved electronic data interchange (EDI) for submitting advance ocean and rail data and intends to amend the regulations as necessary.

DATES: CBP will start accepting applications on October 20, 2010. Selected applicants will be notified by CBP and will then undergo a certification process to be followed by active testing. The active test will commence no earlier than December 22, 2010 and will run for no less than 90 days. Comments concerning this notice and all aspects of the announced test may be submitted at any time during the test period.

ADDRESSES: Applications to participate in the test should be sent to Susan Maskell at Susan.Maskell@dhs.gov. Please describe in the body of the e-mail any past EDI history with CBP. Written comments concerning program and policy issues should be sent to ACEM1POLICY@cbp.dhs.gov. Please indicate in the subject line whether the comment relates to ocean carriers, rail carriers, or both.

FOR FURTHER INFORMATION CONTACT: Interested parties should direct any questions to their assigned Client Representative. Interested parties without an assigned Client Representative should direct their questions to the Client Representative Branch at 571-468-5500.

SUPPLEMENTARY INFORMATION:

Background

The National Customs Automation Program (NCAP) was established in Subtitle B of Title VI—Customs Modernization, in the North American Free Trade Agreement Implementation Act (Pub. L. 103-182, 107 Stat. 2057, 2170, December 8, 1993) (Customs Modernization Act). See 19 U.S.C. 1411. Through NCAP, the initial thrust of customs modernization was on trade compliance and the development of the Automated Commercial Environment (ACE), the planned successor to the Automated Commercial System (ACS). ACE is an automated and electronic system for commercial trade processing which is intended to streamline business processes, facilitate growth in trade, ensure cargo security, and foster participation in global commerce, while ensuring compliance with U.S. laws and regulations and reducing costs for U.S. Customs and Border Protection (CBP) and all of its communities of interest.

The ability to meet these objectives depends on successfully modernizing CBP's business functions and the information technology that supports those functions. CBP's modernization efforts are accomplished through phased releases of ACE component functionality designed to replace a specific legacy ACS function. Each release will begin with a test and will end with mandatory compliance with the new ACE feature, thus retiring the legacy ACS function. Each release builds on previous releases and sets the foundation for subsequent releases.

Ocean and Rail Data

This document is announcing a test to allow ocean and rail data to be transmitted to ACE. The data includes the advance cargo information required by section 343 of the Trade Act of 2002, as amended by the Maritime Transportation Security Act of 2002 (see 68 FR 68140, December 5, 2003), and the advance data ocean carriers are required to provide pursuant to the importer security filing and additional carrier requirements interim final rule, commonly known as 10 + 2 (see 73 FR 71730, November 25, 2008).¹ Currently, this information is required to be transmitted via ACS in advance of arrival through a CBP-approved electronic data interchange (EDI). For ocean and rail carriers, the CBP-approved EDI is the Automated Manifest System (AMS). Ocean carriers use Vessel AMS and rail carriers use Rail AMS and the data is transmitted using one of the following AMS-compatible software data standards: ANSI X12, CAMIR, UN/EDIFACT, or BAPLIE. Currently, brokers submitting the advance data required by 10 + 2 use the Automated Broker Interface (ABI)-compatible software data standard known as CATAIR. See the Implementation of the Test section below for further explanation concerning the different software data standards.

¹ For specific information about the requirements to provide advance cargo information to CBP, please see the following sections of title 19 of the Code of Federal Regulations (CFR): 4.7 Inward foreign manifest; production on demand; contents and form; advance filing of cargo declaration; 4.7a Inward manifest; information required; alternative forms; 4.7c Vessel stow plan; 4.7d Container status messages, 123.91 Electronic information for rail cargo required in advance of arrival; and part 149 Importer Security Filing.

As explained in further detail below, test participants will retain all of their current functionality. However, test participants will receive the additional benefits and functionality ACE provides. The deployment of ocean and rail manifest data through ACE continues to lay the foundation for a multimodal database that will eventually host all modes of transportation, including air.

Upon commencement of this test, ACE will be the system of record for ocean and rail data at all ports for test participants, therefore replacing ACS as their system of record. See ACE Systems of Record Notice (71 FR 3109), published in the Federal Register on January 19, 2006. As such, the creation and maintenance of specified data elements will originate in ACE and will be distributed to other CBP systems.

Authorization for the Test

The Customs Modernization Act provides the Commissioner of CBP with authority to conduct limited test programs or procedures designed to evaluate planned components of the NCAP. This test is authorized pursuant to § 101.9(b) of the CBP Regulations (19 CFR 101.9(b)) which provides for the testing of NCAP programs or procedures. This test is being conducted pursuant to this authority.

Implementation of the Test

With the publication of this notice CBP will begin accepting applications from all transmitters of required advance ocean and rail data who wish to participate in the test. Interested applicants should contact Susan Maskell (susan.maskell@dhs.gov) in the form of an e-mail stating their qualifications based on the below referenced selection criteria, past EDI history with CBP, and their technical specifications. The e-mail should also include a point of contact. Applications will be accepted throughout the duration of the test and will be processed in the order in which they are received. Test participants will be chosen based on the selection criteria established by CBP (explained below in the Test Participant Selection Criteria section) and will be notified directly if they are chosen to participate in the initial test.

Currently, AMS and ABI users are responsible for developing or procuring AMS or ABI-compatible software for transmitting the required advance data to CBP. The following is a list of current AMS or ABI-compatible software:

• ANSI X12—The proprietary EDI data standard of the American National Standards Institute (ANSI). This is the standard currently used by most rail and many ocean AMS transmitters.

• CAMIR—Customs Automated Manifest Interface Requirements. This is the CBP proprietary EDI data standard developed to allow ocean manifest transmitters a standard format to send their data to CBP.

• UN/EDIFACT—The United Nations Electronic Data Interchange for Administration of Commerce and Transport. This is the EDI data standard developed and maintained by the United Nations.

• BAPLIE—Bayplan/Stowage Plan Occupied and Empty Locations. This is a data message set of the UN/EDIFACT EDI data format to standardize the transmission of stowage plans associated with containerized cargo.

• CATAIR—Customs And Trade Automated Interface Requirements. This is a CBP proprietary EDI data standard used primarily for the ABI but also used for in-bond transactions, ISF, and customhouse broker queries of CBP manifest systems.

Test Participant Selection Criteria

CBP has selected its criteria for test participants to include each type of current transmitter of required advance data for ocean and rail and each type of AMS or ABI-compatible software during the test to ensure compatibility with ACE. Specifically, CBP is looking for test participants to include:

• 2-3 Ocean Carriers. At least one must be filing manifests and transmitting unified manifest/ISF data using X12 and one must be using CAMIR message formats. Carrier applicants must also be submitting stow plans via BAPLIE (UN/EDIFACT).

• 2 Service Centers. One using X12 message formats and one using CAMIR message formats. Each service center must have at least one client filing manifests and transmitting unified manifest/ISF data and who is also submitting stow plans via BAPLIE (UN/EDIFACT).

• 1 Port Authority. Preferably one that both sends and receives data.

• 2 Terminal Operators. One using X12 message formats and one using CAMIR message formats.

• 2-3 Rail Carriers. At least one from the Northern Border and one from the Southern Border.

• 1-2 ABI filers currently filing the following information electronically: In-bond applications (ABI Applications, commonly known as “QP/WP”), Bill of Lading Update (ABI Application “LN”), and Cargo/Manifest Status Query (ABI Application “IN”) transactions and processing Broker Download (ABI Application “BD”) and Status Notifications (ABI Application “NS”).

• 2-3 stand-alone ISF filers. This will ensure that both X12 and CAMIR message formats are represented.

Additional Eligibility Requirements:

• Participant must be a current AMS EDI transmitter for ocean or rail modes of transportation using ANSI X12 or the CAMIR interfaces or an ABI transmitter using the CATAIR interface for in-bond transactions (QP/WP);

• Participant must have, or agree to establish, an ACE Secure Data Portal account; and

• Participant must have their software ready to test with CBP once CBP begins the certification process.

CBP will post the appropriate standards needed to enable each specific type of AMS or ABI-compatible software to work with ACE on the CBP.gov Web site approximately 90 days prior to the start of the active test stage. This will enable transmitters of the required advance ocean and rail data to conform their own software or acquire new software that is compatible with ACE, in anticipation of ACE becoming the only CBP-approved EDI for submitting required ocean and rail data.

I. Certification Stage

Applicants will be notified of their selection as participants. After notification, CBP will begin a certification process with the participants. The certification process is the first step towards being able to utilize ACE and it consists of two preliminary tests designed to ensure the successful transmission of data through ACE: The systems interface test and the software test.

The systems interface test is used to verify the accuracy of the participant's communications software and hardware. Any communications problems encountered during the test will be resolved. A pre-defined test scenario must be followed by each participant to evaluate its software's effectiveness in transmitting and receiving manifest, site, user, and other data. The systems interface test is complete when the participant has retrieved and verified CBP-created client-specific files from the ACE database.

The software test allows final adjustments to the participant's system and provides an opportunity for error detection without risk to the ACE production system. CBP will process sample messages and generate error messages, reject messages, and status notifications. The software test is complete when the participant has demonstrated that its software is able to transmit sample manifests, various messages, amendments, and General Order (GO) status replies according to established test procedures.

II. Active Test Stage

After completion of the certification process, but no earlier than December 22, 2010, CBP will deploy ACE ocean and rail functionality capabilities for the initial group of test participants. Throughout the test, CBP will maintain communication with the participants in order to receive comments, address issues, and measure the functionality of ACE.

ACE Functionality

Test participants will retain all of the existing functionality currently available through ACS, including the capability to:

• Submit ocean bills of lading and rail preliminary and transit bills of lading;

• Report conveyance itinerary for ocean and rail conveyances;

• Process conveyance arrivals and departures for ocean and rail;

• Process in-bond arrivals and exports;

• Process consist information for rail;

• Process general order transactions;

• Manage holds on bills of lading, conveyances, in-bond moves, empty equipment;

• Report Freight Remaining On Board;

• Process automated line release for rail cargo;

• Process permit to transfer requests;

• Submit Bio-Terrorism Act prior notification data for the Food and Drug Administration;

• Receive general order, overdue for arrival or export in-bond advisories;

• Share status notifications with other trade partners;

• Process transfer of liability requests between bonded carriers;

• Request that bill of lading data be sent to entry filers to expedite cargo clearance;

• Receive entry advisories in advance of arrival;

• Add secondary in-bond movements;

• Receive shipment status advice from other Federal agencies; and

• Submit vessel stowage plans.

In addition to the above-referenced capabilities, the following new functionalities will be available through ACE:

• Broker Download

The broker download functionality, currently available for rail transportation, will be available for ocean transportation as well. The broker download process allows for the EDI conversion of the carrier bill of lading that CBP receives in advance of shipment arrival into the CATAIR record format used by participants in the CBP ABI application. ACE will send the ABI formatted bill of lading to the customs broker designated in the bill of lading. The broker download serves as an electronic “notification” for the broker that a shipment is incoming. This will expedite the cargo clearance process at the port of arrival.

• Holds at the Container Level

CBP will have the ability to place and remove holds at the container level. This will allow one container to be held and the balance of the containers on the bill of lading to be moved to the premises of the importer pending final delivery authorization from CBP.

• Expansion of Shipment Status Disposition Codes

The shipment status disposition code will be expanded to three positions to accommodate the participation of additional Federal Agencies that will use ACE under the International Trade Data System (ITDS) initiative of the ACE project. While this new EDI functionality is being announced in this Notice, this expansion to three positions will not be part of the initial commencement of this test, but will occur sometime thereafter. The expansion will be communicated to CBP trade partners well in advance through CSMS, publication of implementation guides on cbp.gov and outreach through trade associations and liaison groups.

• Enhanced Transaction Sets

The migration to the new ACE system will require changes to the EDI transaction sets that are used between CBP and the trade to send and receive cargo data and shipment status notifications. These changes will allow CBP to provide significantly more discrete and specific error messages that will allow the transmitter to quickly amend and resubmit. Error messages may be provided for multiple lines and specifically identify sections of submissions containing errors. Standardized system edits will be added to reduce the amount of customized coding that was previously required. All updated transaction sets will be posted to the CBP.gov Web site. Information regarding any changes to the ocean and/or rail manifest transaction sets will also be communicated via CSMS.

ACE Portal Account Enhancements

On October 18, 2007, CBP published a Notice in the Federal Register (72 FR 59105) announcing, among other things, the establishment of carrier portal accounts for all modes of transportation, including ocean and rail carriers. Carriers interested in establishing ocean and/or rail portal accounts were requested to provide CBP with their Standard Carrier Alpha Code (SCAC) and method of transportation (i.e., ocean, rail). Upon establishment of those accounts, ocean and rail carriers were advised that they would only have access to the static data and basic account profile information necessary to establish their portal account.

For participants of this test, ocean and rail portal carrier accounts will now also have the following additional capabilities:

• Conveyance Maintenance for Ocean Carriers

Ocean portal carrier account users will have the ability to create and maintain vessel data via the portal using portal input screens and/or using the Excel spreadsheet upload capability. Ocean portal carrier account users will also have the ability to download their vessel data into the Excel spreadsheet.

• Custodial Bond Authorization and Verification

The bond authorization capability will be managed by the principal of the custodial bond (i.e., the bonded carrier) to cover the movement of in-bond cargo between CBP ports of entry. Via the ACE Portal, the bond principal will be able to designate (by either the SCAC or ABI Filer code) those entities that are authorized to obligate the bond principal's custodial bond. A date range for this authorization is also available. Additionally, the bond principal will be able to set one of two levels of authorization:

1. All Ports: This level of authorization allows the bond principal to grant an authorized user the authority to obligate its Activity Code 2 custodial bond for the movement of in-bond cargo between all CBP ports, with the optional feature of setting an expiration date. If the bond principal chooses the optional expiration date, the permission to obligate the custodial bond expires at midnight on the expiration date.

2. Specific Ports: This level of authorization allows the bond principal to grant an authorized user the authority to obligate its bond for the movement of in-bond cargo between specified CBP ports, with an optional feature of setting an expiration date. There is no limit to how many port pairings the bond principal can establish for the authorized user. If the bond principal chooses the optional expiration, the permission to obligate the custodial bond expires at midnight on the expiration date.

The new custodial bond authorized user verification functionality is an optional feature of this test and will only work with entities that are also ACE test participants. This functionality will not apply to bonds authorized via AMS. Custodial bond principals that do not want to invoke this new authorized user validation feature need not create any authorized user records. In the absence of any authorized user records associated to a custodial bond, the bond principal may enter its own SCAC Code as the only authorized user in its account. Such processing is consistent with current custodial bond verifications in the legacy ACS ocean and rail manifest and QP/WP software applications and truck QP/WP software applications. A bonded carrier may restrict all other entities from obligating its bond by entering its own SCAC code as the only authorized user in its account.

Conversely, as soon as one party is added as an authorized user to this new “custodial bond user verification” file, the principal of the custodial bond must enter authorizing records for each of the parties that is allowed to invoke its custodial bond. For example, if a custodial bond principal allows four other parties to obligate its bond, the bond principal must enter authorizations for each one of the four parties. If the bond principal chooses not to allow any party to obligate its custodial bond, then the bond principal must enter its own SCAC Code as the only authorized user in its account.

ACE will continuously verify that the party attempting to obligate a custodial bond is authorized to do so. If the party obligating the custodial bond is NOT the bond owner, ACE will check the data base of authorized users on that bond. If the party using the custodial bond is not authorized, the bill of lading submission or ABI electronic in bond request (commonly known as “QP”), will be rejected back to the data processing site of origination with the following error message, “Not Authorized To Use Custodial Bond.” A message will also be sent to the bond owner identifying the bill of lading number and the coded identity of the party that attempted to invoke the bond.

• Report Capability

Ocean and rail portal carrier account users will have the ability to run various standard bill of lading, in-bond, manifest, and equipment reports. Carrier account users will also be able to modify standard reports as well as create customized reports from scratch. Reports can be saved to a “Shared Folder” for use by others within the account.

All data submitted and entered into the ACE Portal is subject to the Trade Secrets Act (18 U.S.C. 1905) and is considered confidential, except to the extent as otherwise provided by law (see 19 U.S.C. 1431(c)). Participation in this or any of the previous ACE tests is not confidential and upon a written Freedom of Information Act request, a name(s) of an approved participant(s) will be disclosed by CBP in accordance with 5 U.S.C. 552.

III. Expansion of the Test for All AMS Transmitters Not Chosen Initially

Once the initial group of participants has demonstrated the capability to operate in ACE in the active test stage, CBP intends to expand the number of test participants until all interested ocean and rail transmitters are participating in the test. This expansion will be done on a rolling basis, beginning some time around the start of the active test stage for the initial group of participants. All ocean and rail transmitters not using ACE, including applicants not chosen to participate in the initial test group, will be contacted via CBP.gov, CSMS, and other trade outreach efforts to determine their interest in participating in the test. Later added participants must follow the same procedures as those explained above in Section I—Certification Stage and Section II—Active Test Stage.

CBP's ultimate goal is the full transition of ocean and rail data transmission to ACE. This transition would be announced in the Federal Register in a manner consistent with the Administrative Procedure Act and would occur no earlier than 90 days after the commencement of the active test stage. As indicated, the active test stage will start no earlier than December 22, 2010.

Misconduct Under the Test

An ACE test participant may be subject to civil and criminal penalties, administrative sanctions, liquidated damages and/or suspension from this test for any of the following:

• Failure to follow the terms and conditions of this test;

• Failure to exercise reasonable care in the execution of participant obligations;

• Failure to abide by applicable laws and regulations;

• Misuse of the ACE Portal;

• Engagement in any unauthorized disclosure or access to the ACE Portal; and

• Engagement in any activity which interferes with the successful evaluation of the new technology.

A notice proposing suspension will be provided in writing to the participant. Such notice will apprise the participant of the facts or conduct warranting suspension and will inform the participant of the date that the suspension will begin.

Any decision proposing suspension of a participant may be appealed in writing to the Assistant Commissioner, Office of Field Operations, within 15 calendar days of the notification date. Should the participant appeal the notice of proposed suspension, the participant must address the facts or conduct charges contained in the notice and state how compliance will be achieved. In cases of willful misconduct or where public health interests or safety is concerned, the suspension may be effective immediately.

Test Evaluation Criteria

To ensure adequate feedback, participants are required to participate in an evaluation of this test. CBP also invites all interested parties to comment on the design, implementation and functionality of ACE or the test program at any time during the test period. CBP will publish the final results in the Federal Register and the Customs Bulletin as required by 19 CFR 101.9(b).

CBP will use questionnaires to address such issues as:

• Problem resolution;

• System efficiency;

• Operational issues; and

• Other issues identified by the participants.

Next Steps

Shortly after the successful completion of the test, but no earlier than March 22, 2011, CBP plans to publish a notice in the Federal Register announcing that ACE will be the only CBP-approved EDI for required advance ocean and rail data.

Dated: October 15, 2010.
Thomas Winkowski,
Assistant Commissioner, Office of Field Operations.

[FR Doc. 2010-26428 Filed 10-19-10; 8:45 am]

BILLING CODE 9111-14-P